SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: July 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR part 806, subpart E:

1. Pennsylvania Department of Corrections—State Correctional Institute at Huntingdon, GF Certification No. GF-202007101, Smithfield Township, Huntingdon County, Pa.; Price Spring, Mason Spring, and consumptive use; Issue Date: July 1, 2020.

2. Village of Bath—Bath Electric, Gas and Water Systems, GF Certificate No. GF-202007102, Village and Town of Bath, Steuben County, N.Y.; Wells 4, 6, and 7; Issue Date: July 1, 2020.

3. Village of Canisteo—Public Water Supply System, GF Certificate No. GF-202007103, Village of Canisteo, Steuben County, N.Y.; Well 1; Issue Date: July 30, 2020.

4. Pennsylvania Fish & Boat Commission—Reynoldsdale State Fish Hatchery, GF Certificate No. GF-202007104, East St. Clair Township, Bedford County, Pa.; the Sump and Spring; Issue Date: July 30, 2020.

5. Sugarloaf Golf Club, Inc., GF Certificate No. GF-202007105, Black Creek Township, Luzerne County, Pa.; Lower Pond, Unnamed Tributary to Black Creek, and consumptive use; Issue Date: July 30, 2020.

6. Pennsylvania—American Water Company—Susquehanna District, GF Certificate No. GF-202007106, Harmony and Great Bend Townships, Susquehanna County, Pa.; East Branch Canawacta Creek; Issue Date: July 30, 2020.

Authority: Pub. L. 91-575, 84 Stat. 1509 et seq., 18 CFR parts 806 and 808.

Dated: August 13, 2020.
Jason E. Oyler,
General Counsel and Secretary to the Commission.

[FR Doc. 2020-18093 Filed 8-18-20; 8:45 am]

BILLING CODE 7040-01-P